DEPARTMENT OF THE INTERIOR

Bureau of Land Management

[Docket No. [CA-310-0777-XG]

Notice of Public Meeting: Northwest California Resource Advisory Council

AGENCY: Bureau of Land Management, Interior.

ACTION: Notice of Public Meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, March 6, and 7, 2008, at the BLM Arcata Field Office, 1695 Heindon Rd., Arcata, CA. On March 6, the council members convene at 10 a.m. at the Arcata field Office, and departs immediately to a field tour of public lands managed by the Arcata Field Office. On March 7, the council convenes at 8 a.m. in the Conference Room of the Arcata Field Office. Public comments will be taken at 11 a.m.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics discussion of field office priority projects, land use plan development for the Lacks Creek and South Cow Mountain areas, an update on seabird monitoring in the BLM's California Coastal National Monument, management of the Sacramento River Bend area, and an update on the California Recreation Resource Advisory Council. Members will also hear status reports on activities in the Arcata, Redding and Ukiah field offices. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: January 29, 2008.
Joseph J. Fontana,
Public Affairs Officer.

[FR Doc. 08-476 Filed 2-1-08; 8:45 am]

BILLING CODE 4310-40-M